DEPARTMENT OF AGRICULTURE

Animal and Plant Health Inspection Service

[Docket No. 03-021-1]

Tropical Soda Apple; Availability of an Environmental Assessment

AGENCY: Animal and Plant Health Inspection Service, USDA.

ACTION: Notice of availability and request for comments.

SUMMARY: We are advising the public that an environmental assessment has been prepared by the Animal and Plant Health Inspection Service relative to the control of tropical soda apple, Solanum viarum Dunal (Solanaceae). The environmental assessment considers the effects of, and alternatives to, the release of a nonindigenous beetle, Gratiana boliviana Spaeth (Coleoptera: Chrysomelidae), into the environment as a biological control agent to reduce the severity of infestations of tropical soda apple in Florida and other infested States in the continental United States. We are making this environmental assessment available to the public for review and comment.

DATES: We will consider all comments that we receive on or before April 4, 2003.

ADDRESSES: You may submit comments by postal mail/commercial delivery or by e-mail. If you use postal mail/commercial delivery, please send four copies of your comment (an original and three copies) to: Docket No. 03-021-1, Regulatory Analysis and Development, PPD, APHIS, Station 3C71, 4700 River Road Unit 118, Riverdale, MD 20737-1238. Please state that your comment refers to Docket No. 03-021-1. If you use e-mail, address your comment to regulations@aphis.usda.gov. Your comment must be contained in the body of your message; do not send attached files. Please include your name and address in your message and “Docket No. 03-021-1” on the subject line.

You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Tracy A. Horner, Ecologist, Environmental Services, PPD, APHIS, 4700 River Road Unit 149, Riverdale, MD 20737-1236; (301) 734-5213.

SUPPLEMENTARY INFORMATION:

Background

The Animal and Plant Health Inspection Service (APHIS) is considering an application from a researcher at the University of Florida for a permit to release a nonindigenous beetle, Gratiana boliviana Spaeth (Coleoptera: Chrysomelidae), into the environment to reduce the severity of infestations of tropical soda apple, Solanum viarum Dunal (Solanaceae) in Florida and other infested States in the continental United States.

Tropical soda apple is a perennial shrub that belongs to the plant family Solanaceae, section Acanthophora, genus Solanum, and subgenus Leptostemonum. A plant with foliage unpalatable to livestock, tropical soda apple can infest a pasture or rangeland in 1 to 2 years, resulting in lower stocking rates. It is native to Brazil and Argentina but has become a weed in other areas of South America and in Africa, India, Nepal, the West Indies, Honduras, Mexico, and the United States. Tropical soda apple was originally detected in the United States in Florida in 1988. The pasture land infested in 1992 was estimated to be approximately 150,000 acres; 10 years later, the infested area had increased to more than 1 million acres of improved pastures, citrus groves, sugar cane fields, ditches, vegetable crops, sod farms, forestlands, and natural areas. Tropical soda apple was placed on the Federal Noxious Weed List in 1995, and it is listed as one of the most invasive species in Florida by the Florida Exotic Pest Plant Council. In addition to Florida, the plant has been reported in Alabama, Georgia, Mississippi, Louisiana, Texas, North Carolina, South Carolina, Tennessee, and Pennsylvania. Researchers believe that it has the potential to expand its range even further in the United States.

Three types of controls are currently being used to limit the spread of tropical soda apple: chemical, mechanical, and regulatory. Chemical control involves the use of herbicides. Mechanical control is attempted by mowing to a three- to four-inch height to prevent the plants from producing fruit and seeds. Several southern States are trying to prevent the spread of tropical soda apple by means of regulatory control, regulating the movement of cattle, hay, sod, manure, lots of seed, and soil from infested areas to areas free of infestation. Unfortunately, herbicides and mowing only provide temporary weed suppression, and in addition to being expensive, they are not always practical in inaccessible areas. Moreover, herbicides can have negative environmental effects, which include leaving undesirable chemical residues in the ecosystem and in commodities and adversely affecting non-target organisms.

The biological control agent G. boliviana, a nonindigenous tortoise beetle in the insect family Chrysomelidae, has the potential to reduce the severity of infestations of tropical soda apple in Florida and other infested States in the continental United States. Adults and larvae feed on tropical soda apple leaves, restricting the vigor and growth rate of the plants and potentially reducing the competitive advantage this invasive weed has over native vegetation. APHIS has completed an environmental assessment that considers the effects of, and alternatives to, the release of G. boliviana into the environment as a biological control agent for tropical soda apple.

APHIS’ review and analysis of the potential environmental impacts associated with releasing G. boliviana into the environment are documented in detail in an environmental assessment entitled “Field Release of a Nonindigenous Beetle, Gratiana boliviana (Coleoptera: Chrysomelidae), for Biological Control of Tropical Soda Apple, Solanum viarum (Solanaceae)” (February 2003). We are making this environmental assessment available to the public for review and comment. We will consider all comments that we receive on or before the date listed under the heading DATES at the beginning of this notice.

The environmental assessment may be viewed on the Internet at http://www.aphis.usda.gov/ppq/ by following the link for “Document/Forms Retrieval System,” then clicking on the triangle beside “6-Permits-Environmental Assessments” and selecting document number 0033. You may request paper copies of the environmental assessment by calling or writing to the person listed under FOR FURTHER INFORMATION CONTACT. Please refer to the title of the environmental assessment when requesting copies. The environmental assessment is also available for review in our reading room (information on the location and hours of the reading room is listed under the heading ADDRESSES at the beginning of this notice).

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS’ NEPA Implementing Procedures (7 CFR part 372).

Done in Washington, DC this 28th day of February 2003.
Peter Fernandez,
Acting Administrator, Animal and Plant Health Inspection Service.

[FR Doc. 03-5134 Filed 3-4-03; 8:45 am]

BILLING CODE 3410-34-P